DEPARTMENT OF JUSTICE

Antitrust Division

Notice Pursuant to the National Cooperative Research and Production Act of 1993—National Commission on Correctional Health Care

Notice is hereby given that, on January 21, 2005, pursuant to Section 6(a) of the National Cooperative Research and Production Act of 1993, 15 U.S.C. 4301 et seq. (“the Act”), National Commission on Correctional Health Care (“NCCHC”) has filed written notifications simultaneously with the Attorney General and the Federal Trade Commission disclosing (1) the name and principal place of business of the standards development organization and (2) the nature and scope of its standards development activities. The notifications were failed for the purpose of invoking the Act's provisions limiting the recovery of antitrust plaintiffs to actual damages under specified circumstances.

Pursuant to Section 6(b) of the Act, the name and principal place of business of the standards development organization is: National Commission on Correctional Health Care, Chicago, IL. The nature and scope of NCCHC's standards development activities are: to develop, plan, establish, coordinate, and publish voluntary consensus standards applicable to the field of correctional health care. Specifically, NCCHC develops, plans establishes, coordinates, and publishes voluntary consensus standards for prisons, jails and juvenile confinement facilities in the form of: Standards for the provision of health services; position statements concerning the provision of health services; and clinical guidelines concerning the provision of health services. Through its standard development activities, NCCHC seeks to help correctional health care systems provide efficient, high quality care. NCCHC's standards development activities are ongoing in nature, and existing standards, policy statements, and guidelines may be updated or amended from time to time.

Dorothy B. Fountain,
Deputy Director of Operations, Antitrust Division.

[FR Doc. 05-3925 Filed 2-28-05; 8:45 am]

BILLING CODE 4410-11-M